DEPARTMENT OF TRANSPORTATION

Surface Transportation Board

[STB Finance Docket No. 34497]

Coffeen and Western Railroad Company—Lease and Operation Exemption—Near Coffeen, IL

Coffeen and Western Railroad Company (CWRC), a noncarrier, has filed a verified notice of exemption under 49 CFR 1150.31 to lease from Ameren Energy Generating Company (AEGC) and operate approximately 0.2 miles of rail line.¹ The line is located near Coffeen, IL, originating off of the Coffeen Power Plant's main lead track near Station 10+00 and continuing in a northerly direction to Station 0+00, a point near a line owned by Norfolk Southern Railway Company.

¹ CWRC indicates that by this transaction, common carrier operations will be established on this formerly private track and any existing or new shipper may request service on the line.

This transaction is related to STB Finance Docket No. 34498, Ameren Corporation—Control Exemption—Coffeen and Western Railroad Company, wherein Ameren Corporation seeks to acquire control of CWRC upon CWRC's becoming a Class III carrier.

CWRC certifies that its projected revenues do not exceed those that would qualify it as a Class III carrier and do not exceed $5 million. The transaction was scheduled to be consummated on or shortly after April 22, 2004, the effective date of the exemption.²

² CWRC states that the parties are in the process of entering into a lease agreement and that it anticipates execution of that agreement by the end of April 2004.

If the notice contains false or misleading information, the exemption is void ab initio. Petitions to revoke the exemption under 49 U.S.C. 10502(d) may be filed at any time. The filing of a petition to revoke does not automatically stay the transaction.

An original and 10 copies of all pleadings, referring to STB Finance Docket No. 34497, must be filed with the Surface Transportation Board, 1925 K Street, NW., Washington, DC 20423-0001. In addition, a copy of each pleading must be served on Sandra L. Brown, 401 Ninth Street, NW., Suite 1000, Washington, DC 20004.

Board decisions and notices are available on its website at “http://www.stb.dot.gov.”

Decided: May 3, 2004.
By the Board, David M. Konschnik, Director, Office of Proceedings.
Vernon A. Williams,
Secretary.

[FR Doc. 04-10540 Filed 5-7-04; 8:45 am]

BILLING CODE 4915-01-P